DEPARTMENT OF HEALTH AND HUMAN SERVICES

National Institutes of Health

Center for Scientific Review; Amended Notice of Meeting

Notice is hereby given of a change in the meeting of the Center for Scientific Review Special Emphasis Panel, June 28, 2002, 2:30 p.m. to June 28, 2002, 5 p.m., Radisson Barcelo, 2121 P Street, NW., Washington, DC, 20037 which was published in the Federal Register on June 12, 2002, 67 FR 40326-40329.

The meeting will be held on July 26, 2002, from 1 p.m. to 2:30 p.m. at the NIH, 6701 Rockledge Drive, Bethesda, MD. The meeting is closed to the public.

Dated: July 12, 2002.
LaVerne Y. Stringfield,
Director, Office of Federal Advisory Committee Policy.

[FR Doc. 02-18131 Filed 7-17-02; 8:45 am]

BILLING CODE 4140-01-M